DEPARTMENT OF ENERGY

Federal Energy Regulatory Commission

Combined Notice of Filings #1

March 26, 2009.

Take notice that the Commission received the following electric rate filings:

Docket Numbers: ER08-1178-003; EL08-88-004.

Applicants: California Independent System Operator Corporation.

Description: California Independent System Operator Corporation submits Attachment A- Exceptional Dispatch Amendment Compliance Filing.

Filed Date: 03/23/2009.

Accession Number: 20090324-0295.

Comment Date: 5 p.m. Eastern Time on Monday, April 13, 2009.

Docket Numbers: ER09-380-001.

Applicants: PacifiCorp

Description: PacifiCorp submits its Transmission Interconnection Agreement.

Filed Date: 03/05/2009.

Accession Number: 20090305-0175.

Comment Date: 5 p.m. Eastern Time on Monday, April 06, 2009.

Docket Numbers: ER09-583-001.

Applicants: ITC Midwest LLC.

Description: ITC Midwest LLC submits the cover sheet to the Agreement redesignated as required under the Midwest ISO's Fourth Revised Volume.

Filed Date: 03/25/2009.

Accession Number: 20090326-0027.

Comment Date: 5 p.m. Eastern Time on Wednesday, April 15, 2009.

Docket Numbers: ER09-850-000.

Applicants: Public Service Company of Colorado.

Description: Public Service Company of Colorado submits Amended and Restated Power Supply Agreement with Holy Cross Electric Association, Inc dated 2/18/09.

Filed Date: 03/16/2009.

Accession Number 20090317-0259.

Comment Date: 5 p.m. Eastern Time on Monday, April 06, 2009.

Docket Numbers: ER09-851-000.

Applicants: PJM Interconnection L.L.C.

Description: PJM Interconnection, LLC submits a notice of cancellation of a wholesale market participation agreement with Granger Energy of Honeybrook, LLC.

Filed Date: 03/16/2009.

Accession Number: 20090317-0260.

Comment Date: 5 p.m. Eastern Time on Monday, April 06, 2009.

Docket Numbers: ER09-852-000.

Applicants: PJM Interconnection L.L.C.

Description: PJM Interconnection, LLC submits notice of cancellation of an interim interconnection service agreement with Connectiv Bethlehem, LLC, etc.

Filed Date: 03/16/2009.

Accession Number: 20090317-0261.

Comment Date: 5 p.m. Eastern Time on Monday, April 06, 2009.

Docket Numbers: ER09-884-000.

Applicants: TransAlta Energy Marketing Corporation.

Description: Petition of Transalta Energy Marketing Corporation for authority to sell energy, capacity, and ancillary services at market-based rates, acceptance of initial rate schedule, waivers, and blanket authority.

Filed Date: 03/25/2009.

Accession Number: 20090326-0076.

Comment Date: 5 p.m. Eastern Time on Wednesday, April 15, 2009.

Take notice that the Commission received the following open access transmission tariff filings:

Docket Numbers: OA09-23-000.

Applicants: Southwest Power Pool, Inc.

Description: Request for Waiver of Southwest Power Pool, Inc.

Filed Date: 03/26/2009.

Accession Number: 20090326-5041.

Comment Date: 5 p.m. Eastern Time on Thursday, April 16, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-7348 Filed 4-1-09; 8:45 am]

BILLING CODE 6717-01-P